OFFICE OF SPECIAL COUNSEL

OSC Annual Survey

AGENCY: U.S. Office of Special Counsel.

ACTION: Notice for public comment; information collection.

SUMMARY: The U.S. Office of Special Counsel (OSC), seeks approval from the Office of Management and Budget (OMB) for use of a survey that differs only slightly from previously approved information collections. OSC is requesting emergency approval for the annual survey, which by statute must be completed by the end of FY2020. Following a one-year pilot-project survey in 2019, OSC now resumes its annual survey to collect feedback from those who have contacted OSC for assistance, either by filing complaints and/or disclosures with OSC, or by seeking Hatch Act Advisory Opinions. This OSC annual survey consists of four electronic questionnaires (one for each type of assistance an individual can seek from OSC), each asking between five and ten questions. OSC invites comments on: The accuracy of OSC's estimate of the burden of the proposed collections of information; ways to enhance the quality, utility, and clarity of the information to be collected; and ways to minimize the burden of the collection of information on respondents.

DATES: Written comments should be received on or before September 21, 2020. However, pursuant to 5 CFR 1320.13, OSC is requesting OMB's emergency approval by August 26, 2020. Therefore, comments are best assured of having full effect if received by OMB within 5 days of this notice's publication in the Federal Register.

ADDRESSES: You may submit written comments by mail to: Office of Information and Regulatory Affairs, Office of Management and Budget, Attention: Desk Officer for OSC, New Executive Office Building, Room 10235, Washington, DC 20503; or by email via: oira_submission@omb.eop.gov.

FOR FURTHER INFORMATION CONTACT: Amy Beckett, Senior Litigation Counsel, by telephone at (202) 804-7000, or by email at frliaison@osc.gov.

SUPPLEMENTARY INFORMATION: OSC is a permanent independent federal investigative and prosecutorial agency. OSC's basic authorities come from four federal statutes: The Civil Service Reform Act, the Whistleblower Protection Act, the Hatch Act, and the Uniformed Services Employment & Reemployment Rights Act (USERRA). OSC's primary mission is to safeguard the merit system by protecting federal employees and applicants from prohibited personnel practices, especially reprisal for whistleblowing, and to serve as a safe channel for allegations of wrongdoing. OSC is required to conduct an annual survey of individuals who seek its assistance. OSC conducts an annual survey pursuant to Section 13 of Public Law 103-424 (1994), codified at 5 U.S.C. 1212 note, which states, in part: “[T]he survey shall—(1) determine if the individual seeking assistance was fully apprised of their rights; (2) determine whether the individual was successful either at the Office of Special Counsel or the Merit Systems Protection Board; and (3) determine if the individual, whether successful or not, was satisfied with the treatment received from the Office of Special Counsel.” The statute requires OSC to publish the survey's results in OSC's annual report to Congress. Copies of prior years' annual reports are available on OSC's website, at https://osc.gov/Pages/Resources-ReportsAndInfo.aspx or by calling OSC at (202) 804-7000. The prior OSC Annual Survey, OMB Control Number 3255-0003, expired on October 31, 2017. The 2019 Pilot Project Survey, OMB Control Number 3255-0007, expired on March 31, 2020.

OSC will use the questionnaires to survey all persons who contacted OSC for assistance during the relevant time period.

OSC is requesting emergency approval of this modified collection of information, because by statute OSC must complete and review the annual survey by the end of FY2020, less than 45 days from the date of this Notice, well before the normal expiration periods; because obtaining the survey responses is essential to OSC's mission and must also be provided to Congress in OSC's annual report; and because OSC faced an unanticipated event with office disruptions due to the Coronavirus pandemic preventing earlier publication.

The survey questionnaires are available for review on line at https://osc.gov/Resources/Pages/Reports.aspx#tabGroup07 or by calling OSC at (202) 804-7000.

Type of Information Collection Request: The survey seeks to determine whether individuals seeking assistance were fully apprised of their rights; were successful either at OSC or the MSPB; and whether successful or not, were satisfied with the treatment they received from OSC.

Affected public: Individuals (or their representatives) who sought OSC services through: (1) Submitting complaints alleging prohibited personnel practice, USERRA violations, or Hatch Act violations; (2) disclosures of information alleging violation of law, rule, or regulation, gross mismanagement or waste of funds, abuse of authority, substantial and specific danger to public health and/or safety, or censorship related to scientific research; or (3) seeking Hatch Act advisory opinions.

Respondent's Obligation: Voluntary.

Estimated Annual Number of Survey Form Respondents: 600.

Frequency of Survey form use: One-time.

Estimated Average Amount of Time for a Person to Respond to survey: 5.5 minutes.

Estimated Annual Survey Burden: 55 hours.

Dated: August 17, 2020.
Travis Millsaps,
Deputy Special Counsel for Public Policy.

[FR Doc. 2020-18358 Filed 8-20-20; 8:45 am]

BILLING CODE 7405-01-P